DEPARTMENT OF AGRICULTURE

Rural Utilities Service

Technical Assistance and Training Grant Program

AGENCY: Rural Utilities Service, USDA.

ACTION: Notice of Funds Availability (NOFA) under the American Recovery and Reinvestment Act of 2009 (ARRA) for technical assistance and training program and solicitation of applications.

SUMMARY: The Rural Utilities Service (RUS) announces the availability of grant funds pursuant to Title I of Division A of the American Recovery and Reinvestment Act of 2009 (Recovery Act), Public Law 111-5 (Feb. 17, 2009) with regard to the Technical Assistance and Training Grant Program (TAT). Funds authorized by the Recovery Act are in addition to Fiscal Year (FY) 2009 funding for this grant program. The intent of this notice is to advise the public of the funds available and to provide transparency as required by the Recovery Act. Regulations for the Technical Assistance and Training Grant Program regulations can be found at 7 CFR part 1775. Funding announced is intended to support technical assistance and training activities that facilitate efforts by rural communities to access Recovery Act funding for critical water and waste disposal infrastructure projects, particularly those communities in smaller, lower income, and persistent poverty areas.

DATES: You may submit completed applications for TAT grants on paper or electronically according to the following deadlines:

Paper Submissions: Paper submission of an application must be postmarked and mailed, shipped, or sent overnight no later than January 11, 2010 to be eligible for grant funding. Late or incomplete applications will not be eligible for grant funding.

Electronic Submissions: Submit electronic grant applications at http://www.grants.gov (Grants.gov) and follow the instructions you find on that Web site. Electronic submissions of applications must be received by January 11, 2010 to be eligible for grant funding. Late or incomplete applications will not be eligible for grant funding.

ADDRESSES: You may obtain application guides and materials for the Technical Assistance and Training grants the following ways:

• The Internet at the RUS Water and Environmental Programs (WEP) Web site: http://www.usda.gov/rus/water/.

• You may also request application guides and materials from RUS by contacting WEP at (202) 720-9586.

Completed applications may be submitted the following ways:

Paper applications: Send completed paper applications for Technical Assistance and Training grants to the Rural Utilities Service, U.S. Department of Agriculture, 1400 Independence Ave., SW., Room 2233, STOP 1570, Washington, DC 20250-1570.

Applications should be marked “Attention: Assistant Administrator, Water and Environmental Programs.”

Electronic applications: Electronic grant applications may be submitted at http://www.grants.gov/ (Grants.gov), following the instructions you find on that Web site.

FOR FURTHER INFORMATION CONTACT: Steve Saulnier, Branch Chief, Portfolio Management Branch, Water & Environmental Programs, Rural Utilities Service, U.S. Department of Agriculture (USDA), Room 2231 South Building, Stop 1570, 1400 Independence Ave., SW., Washington, DC 20250-1570. Telephone: (202) 690-2526, FAX: (202) 690-0649, E-mail: steve.saulnier@wdc.usda.gov.

Paperwork Reduction Act

In accordance with the Paperwork Reduction Act of 1995 (44 U.S.C. chapter 35), RUS invites comments on this information collection for which RUS intends to request approval from the Office of Management and Budget (OMB). Comments on this notice must be received by February 8, 2010.

Comments are invited on (a) whether the collection of information is necessary for the proper performance of the functions of the agency, including whether the information will have practical utility; (b) the accuracy of the agency's estimate of burden including the validity of the methodology and assumption used; (c) ways to enhance the quality, utility and clarity of the information to be collected; and (d) ways to minimize the burden of the collection of information on those who are to respond, including through the use of appropriate automated, electronic, mechanical, or other technological collection techniques or other forms of information technology.

Comments may be sent to Michele L. Brooks, Director, Program Development and Regulatory Analysis, Rural Utilities Services, U.S. Department of Agriculture, 1400 Independence Ave., SW., Stop 1522, Room 5166—South Building, Washington, DC 20250-1522.

Title: Technical Assistance and Training Grant Program (TAT).

OMB Control Number: 0572-0144.

Type of Request: New information collection package.

Abstract: The Rural Utilities Service (RUS) provides financial and technical assistance to help communities bring safe drinking water and sanitary, environmentally sound waste disposal facilities to rural Americans in greatest need. The additional funding provided by the Recovery Act for Technical Assistance and Training grants will support technical assistance and training activities that facilitate efforts by rural communities to access Recovery Act funding for critical water and waste disposal infrastructure projects, particularly those communities in smaller, lower income, and persistent poverty areas in accordance with 7 CFR part 1775. Qualified private non-profit organizations may apply.

Estimate of Total Annual Burden: Public reporting burden for this collection of information is estimated to be 1042 total burden hours.

Estimated Number of Respondents: 357.

Estimated Number of Responses per Respondent: 1.

Copies of this information collection can be obtained from Michele Brooks, Program Development and Regulatory Analysis, at (202) 690-1078.

All responses to this information collection and recordkeeping notice will be summarized and included in the request for OMB approval. All comments will also become a matter of public record.

SUPPLEMENTARY INFORMATION:

Overview

Federal Agency: Rural Utilities Service (RUS).

Funding Opportunity Title: Technical Assistance and Training Grants (TAT).

Announcement Type: Funding Level Announcement and Solicitation of Applications.

Authority: 7 U.S.C. 1926 (a)(14); Pub. L. 111-5, 123 Stat. 115.

Catalog of Federal Domestic Assistance (CFDA) Number: 10.761.

Dates: Completed TAT grant applications must be mailed, shipped or submitted electronically through Grants.gov no later than January 11, 2010 to be eligible for funding.

Items in Supplementary Information

I. Overview: Describes the purposes of the Recovery Act,

II. Funding Opportunity: Brief introduction to the Technical Assistance and Training Grants;

III. Award Information: Persistent Poverty and Funds available;

IV. Available Funds;

V. Eligibility Information: Who is eligible, what kinds of projects are eligible, what criteria determine basic eligibility;

VI. Accountability and Transparency: Jobs created;

VII. Buy American: Iron, Steel and manufactured goods are produced in the United States;

VIII. Reporting Requirements;

IX. Wage—Rates Requirements: All laborers and mechanics shall be paid at rates not less than those prevailing on similar projects;

X. Civil Rights: This program is subject to all Civil Rights Laws;

XI. Application and Submission Information: Where to get application materials; what constitutes a completed application; how and where to submit applications; deadlines; and, items that are eligible;

XII. Application Review Information: Considerations and preferences; scoring criteria; review standards; and selection information;

XIII. Award Administration Information: Award notice information and award recipient reporting requirements;

XIV. Agency Contacts: Web, phone, fax, e-mail, and contact name.

I. Overview

On February 17, 2009, President Obama signed into law the American Recovery and Reinvestment Act of 2009 (Recovery Act) Public Law 111-5, 123 Stat. 115 (2009) and stated that: “The essential goal of the Recovery Act is to provide a direct fiscal boost to help lift our Nation from the greatest economic crisis in our lifetimes and lay the foundation for future growth.” Accordingly, the Recovery Act identifies five overall purposes as follows: A. To preserve and create jobs and promote economic recovery; B. to assist those most impacted by the recession; C. to provide investments needed to increase economic efficiency by spurring technological advances in science and health; D. to invest in transportation, environmental protection, and other infrastructure that will provide long-term economic benefits; and E. to stabilize State and local government budgets.” The Recovery Act further instructs the President and the heads of Federal departments and agencies to manage and expend Recovery Act funds to achieve these five purposes, “commencing expenditures and activities as quickly as possible consistent with prudent management.”

II. Funding Opportunity

The Rural Utilities Service (RUS) provides financial and technical assistance to help communities bring safe drinking water and sanitary, environmentally sound waste disposal facilities to rural Americans in greatest need. The additional funding provided by the Recovery Act for Technical Assistance and Training grants will allow rural communities to better identify and evaluate solutions to water and waste disposal problems, assist applicants in preparing applications for water and waste grants made in accordance with 7 CFR part 1775, or improve operation and maintenance of existing water and waste disposal facilities in rural areas. Qualified private non-profit organizations may apply.

In using funds made available by the Recovery Act for infrastructure investment, recipients shall give preference to activities that can be started and completed expeditiously. Recipients shall also use grant funds in a manner that maximizes job creation and economic benefit.

III. Award Information

At least ten percent of funding shall be allocated for assistance in persistent poverty counties. “Persistent poverty counties” means any county that has had twenty percent or more of its population living in poverty over the past thirty years, as measured by the 1980, 1990, and 2000 decennial censuses.

IV. Available Funds

The Water and Environmental Programs will utilize $5 million of Recovery Act funds for TAT grants to be awarded by September 30, 2010.

V. Eligibility Information

A. What Are the Basic Eligibility Requirements for Applying?

(For more specific information see 7 CFR 1775, Section 1775.35.) The applying entity (Applicant) must:

1. Be a private, non-profit organization that has tax-exempt status from the United States Internal Revenue Service (IRS);

2. Be legally established and have the proven ability, background, experience, legal authority and actual capacity to provide technical assistance and/or training to carry out the grant purpose.

3. Have no delinquent debt to the Federal Government or no outstanding judgments to repay a Federal debt.

B. What Are the Basic Eligibility Requirements for a Project?

The project must identify and evaluate solutions to water and waste disposal problems, assist applicants in preparing applications for water and waste grants made in accordance with 7 CFR part 1775 of this chapter, or improve operation and maintenance of existing water and waste disposal facilities in rural areas.

VI. Accountability and Transparency

With respect to these funds made available to State or local governments for infrastructure investments, the Governor, mayor, or other chief executive, as appropriate, shall certify that the infrastructure investment has received the full review and vetting required by law and that the chief executive accepts responsibility that the infrastructure investment is an appropriate use of taxpayer dollars. Such certification shall include a description of the investment, the estimated total cost, and the amount of these funds to be used, and shall be posted on the following Web site http://www.recovery.gov. A State or local agency may not receive infrastructure investment funding from funds made available in this Act unless this certification is made and posted.

VII. Buy American

A. None of the funds made available by this Act may be used for a project for the construction, alteration, maintenance, or repair of a public building or public work unless all the iron, steel and manufactured goods used in the project are produced in the United States.

B. Exception—This shall not apply if the head of the Federal department or agency involved finds that—(1) Applying subsection would be inconsistent with the public interest; (2) iron, steel, and the relevant manufactured goods are not produced in the United States in sufficient and reasonably available quantities and of a satisfactory quality or (3) inclusion of iron, steel, and manufactured goods are produced in the United States will increase the cost of the overall project by more than 25 percent.

C. If the head of a Federal department or agency determines that it is necessary to waive the application of submission (1) based on a finding under subsection (2), the head of the department or agency shall publish in the Federal Register a detailed written justification as to why the provision is being waived.

VIII. Reporting Requirements Under 2 CFR 176.50 ARRA Sec. 1512

A. Not later than 10 days after the end of calendar quarter, each recipient that received ARRA funds from a Federal agency shall submit a report to that agency that contains (a) the total amount of recovery funds received from that agency; (b) the amount of ARRA funds received that were expended or obligated to projects or activities; (c) a detailed list of all projects or activities for which recovery funds were expended or obligated, including—the name, a description, an evaluation of the completion status, an estimate of the number of jobs created, the number of jobs retained, and for infrastructure investments made by State and local governments, the purpose, total cost, and rationale of the agency for funding the infrastructure investment with funds made available under ARRA, including a name of the person to contact at the agency if there are concerns with the infrastructure investment; (d) detailed information on any subcontracts or subgrants awarded by the recipient to include the data elements required to comply with the Federal Funding Accountability and Transparency Act of 2006 (Pub. L. 109-282), allowing aggregate reporting on awards below $25,000.

B. Compliance—Within 180 days of enactment, as a condition of receipt of funds under ARRA, Federal agencies shall require any recipient of such funds to provide the information required under recipient reports.

IX. Wage—Rates Requirements

All laborers and mechanics employed by contractors and subcontractors on projects funded directly by or assisted in whole or in part by and through the Federal Government pursuant to this Act shall be paid wages at rates not less than those prevailing on projects of a character similar in the locality as determined by the Secretary of Labor in accordance with subchapter IV of chapter 31 of title 40, United States Code. Further details on eligible applicants and projects may be found in the relevant regulations listed in Section II.C.

X. Civil Rights

Programs referenced in this notice are subject to applicable civil rights laws.

These laws include the Equal Credit Opportunity Act, Title VI of the Civil Rights Act of 1964, Title VIII of the Civil Rights Act of 1968, as amended in 1988, Section 504 of the Rehabilitation Act of 1973 and the Age Discrimination Act of 1975.

XI. Application and Submission Information

A. Where To Get Application Information

The grant application guide, copies of necessary forms and samples, and the Technical Assistance Grants regulation (7 CFR 1775) are available from these sources:

• The Internet: http://www.usda.gov/rus/water/,

• http://www.grants.gov. or,

• For paper copies of these materials: call (202) 720-9586.

1. You may file an application in either paper or electronic format. Whether you file a paper or an electronic application, you will need a Dun and Bradstreet (D&B) Data Universal Numbering System (DUNS) number. You must provide your DUNS number on the SF-424, “Application for Federal Assistance.”

To verify that your organization has a DUNS number or to receive one at no cost, call the dedicated toll-free request line at 1-866-705-5711 or access the Web site http://www.dunandbradstreet.com. You will need the following information when requesting a DUNS number:

a. Legal Name of the Applicant;

b. Headquarters name and address of the Applicant;

c. The names under which the Applicant is doing business as (dba) or other name by which the organization is commonly recognized;

d. Physical address of the Applicant;

e. Mailing address (if separate from headquarters and/or physical address) of the Applicant;

f. Telephone number;

g. Contact name and title;

h. Number of employees at the physical location.

2. Send or deliver paper applications by the U.S. Postal Service (USPS) or courier delivery services to the RUS receipt point set forth below. RUS will not accept applications by fax or e-mail. For paper applications mail or ensure delivery of an original paper application (no stamped, photocopied, or initialed signatures) and two copies by the January 11, 2010 to the following address: Assistant Administrator, Water and Environmental Programs, Rural Utilities Service, 1400 Independence Avenue, SW., STOP 1548, Room 5145 South, Washington, DC 20250-1548.

The application and any materials sent with it become Federal records by law and cannot be returned to you.

3. For electronic applications, you must file an electronic application at the Web site: http://www.grants.gov. You must be registered with Grants.gov before you can submit a grant application. If you have not used Grants.gov before, you will need to register with the Central Contractor Registry (CCR) and the Credential Provider. You will need a DUNS number to access or register at any of the services. The registration processes may take several business days to complete. Follow the instructions at Grants.gov for registering and submitting an electronic application. RUS may request original signatures on electronically submitted documents later.

The CCR registers your organization, housing your organizational information and allowing Grants.gov to use it to verify your identity. You may register for the CCR by calling the CCR Assistance Center at 1-888-227-2423 or you may register online at: http://www.ccr.gov.

The Credential Provider gives you or your representative a username and password, as part of the Federal Government's e-Authentication to ensure a secure transaction. You will need the username and password when you register with Grants.gov or use Grants.gov to submit your application. You must register with the Central Provider through Grants.gov: https://apply.grants.gov/OrcRegister.

B. What Constitutes a Completed Application?

1. To be considered for assistance, you must be an eligible entity and must submit a complete application by the deadline date.

You must consult the cost principles and general administrative requirements for grants pertaining to their organizational type in order to prepare the budget and complete other parts of the application.

You also must demonstrate compliance (or intent to comply), through certification or other means, with a number of public policy requirements.

2. Applicants must complete and submit the following forms to apply for a Technical Assistance and Training grant:

(a) Standard Form 424, “Application for Federal Assistance (For Non-Construction).”

(b) Standard Form 424 A & B, “Budget Information—Non-Construction Programs.”

(c) RD Instruction 1940-Q, Exhibit A-1 or Standard Form LLL, “Disclosure of Lobbying Activity”, whichever is appropriate (include only if grant is over $100,000).

(d) Form AD 1047, “Certification Regarding Debarment, Suspension, and Other Responsibility Matters—Primary Covered Transaction.”

(e) Form AD 1049, “Certification Regarding Drug Free Workplace Requirements (Grants) Alternative I—For Grantees Other Than Individuals.”

(f) Form AD 1048, “Certification Regarding Debarment, Suspension, Ineligibility and Voluntary Exclusion—Lower Tier Covered Transactions.”

(g) Form RD 400-1, “Equal Opportunity Agreement.”

(h) Form RD 400-4, “Assurance Agreement” (Under Title VI, Civil Rights Act of 1964).

(i) Indirect Cost Rate Agreement (if applicable, applicant must include approved cost agreement rate schedule).

(j) Statement of Compliance for Title VI of the Civil Rights Act of 1964.

(k) Certification regarding Forest Service grant.

(l) Attachment regarding assistance provided to Rural Development Employees as required by RD Instruction 1900-D.

3. All applications shall be accompanied by the following supporting documentation:

(a) Evidence of applicant's legal existence and authority in the form of:

(i) Certified copies of current authorizing and organizational documents for new applicants or former grantees where changes were made since the last legal opinion was obtained in conjunction with receipt of an RUS grant, or, certification that no changes have been made in authorizing or organizing documents since receipt of last RUS grant by applicant.

(ii) Current annual corporation report, Certificate of Good Standing, or statement they are not required.

(iii) Certified list of directors/officers with their respective terms.

(b) Evidence of tax exempt status from the Internal Revenue Service (IRS).

(c) Narrative of applicant's experience in providing services similar to those proposed. Provide brief description of successfully completed projects including the need that was identified and objectives accomplished.

(d) Latest financial information to show the applicant's financial capacity to carry out the proposed work. A current audit report is preferred; however applicants can submit a balance sheet and an income statement in lieu of an audit report.

(e) List of proposed services to be provided.

(f) Estimated breakdown of costs (direct and indirect) including those to be funded by grantee as well as other sources. Sufficient detail should be provided to permit the approval official to determine reasonableness, applicability, and allowability.

(g) Evidence that a Financial Management System is in place or proposed.

(h) Documentation on each of the priority ranking criteria listed in 7 CFR 1775, § 1775.11 as follows:

(i) List of the associations to be served and the State or States where assistance will be provided. Identify associations by name, or other characteristics such as size, income, location, and provide MHI and population.

(ii) Description of the type of technical assistance and/or training to be provided and the tasks to be contracted.

(iii) Description of how the project will be evaluated and provide clearly stated goals and the method proposed to measure the results that will be obtained.

(iv) Documentation of need for proposed service. Provide detailed explanation of how the proposed services differ from other similar services being provided in the same area.

(v) Personnel on staff or to be contracted to provide the service and their experience with similar projects.

(vi) Statement indicating the number of months it takes to complete the project or service.

(vii) Documentation on cost effectiveness of project. Provide the cost per association to be served or proposed cost of personnel to provide assistance.

(viii) Other factors for consideration such as emergency situation, training need identified, health or safety problems, geographic distribution, Rural Development Office recommendations, etc.

4. Applicants must also submit a work plan/project proposal that will outline the project in sufficient detail to provide a reader with a complete understanding of how the proposed Technical Assistance and Training grant will address the needs of the rural area. The proposal should cover the following elements (in addition to information contained in 7 CFR part 1775, sections 1775.10 and 1775.11):

(a) Present a brief project overview. Explain the purpose of the project, how it relates to the RUS purposes, how you will carry out the project, what the project will produce, and who will direct it.

(b) Describe why the project is necessary. Describe how eligible rural communities will benefit from the technical assistance. Describe the service area and how the technical assistance will benefit the rural communities.

(c) Clearly state your goals. Your objectives should clearly describe the goals, be concrete and specific enough to be quantitative or observable. They should also be feasible and relate to the purpose of the proposed technical assistance and training.

(d) In addition to completing the standard application forms, you must also submit supplementary materials, as follows:

(i). Demonstrate that your organization is legally recognized under State and Federal law. Satisfactory documentation includes, but is not limited to, certificates from the Secretary of State, or copies of State statutes or laws establishing your organization. Letters from the IRS awarding tax-exempt status are not considered adequate evidence.

(ii). Submit a certified list of directors and officers with their respective terms.

(iii). Submit evidence of tax-exempt status from the Internal Revenue Service.

(iv). You must disclose debarment and suspension information required in accordance with 7 CFR 3017, § 3017.335, if it applies. The section heading is “What information must I provide before entering into a covered transaction with the Department of Agriculture?” It is part of the Department of Agriculture's rules on Government-wide Debarment and Suspension.

(v). Submit the most recent audit of your organization.

XII. Application Review Information

A. Single State Applications

1. Grant applications submitted at the State level will receive a letter acknowledging receipt and confirmation that all information required for a full application was included in the packet. The State will notify the applicant of missing information. The applicant will have 14 business days to respond.

2. The State Office will review applications for eligibility. Those applicants that are deemed ineligible will be notified. Applicants deemed eligible will be forwarded to the National Office for funding consideration.

3. The National Office will review all applications received from State Offices. Applications will compete on a priority basis and will be scored and ranked. The applications receiving the highest scores and subject to the availability of funds will be selected for final processing. The National Office will send these applications back to the State Office for processing. The State Office will notify the applicant(s) that they have been selected for funding.

4. Applicants not selected for funding due to low priority rating shall be notified by the State Office.

B. National and Multi-State Applications

1. National and multi-State applications submitted to the National Office will receive a letter acknowledging receipt and confirmation that all information required for a full application was included in the packet. The National Office shall notify the applicant of missing information. The applicant will have 14 business days to respond.

2. The National Office will review applications for eligibility. Those applications that are deemed ineligible will be notified. Applications deemed eligible will be reviewed and given a rating score. Applications receiving the highest scores will be grouped with those received from State Offices for funding consideration.

3. The National Office will review all applications received. Applications will compete on a priority basis and will be scored and ranked. The applications receiving the highest scores and subject to the availability of funds will be notified by the National Office that they have been selected for funding. The National Office shall conduct final processing of multi-State and national applications.

4. Multi-State and National applicants not selected for funding due to low priority rating will be notified by the National Office.

C. Low Priority Applications

Applications that cannot be funded in the fiscal year received will not be retained for consideration in the following fiscal year.

D. All applications that are complete and eligible will be scored based on the criteria outlined in 7 CFR 1775, § 1775.10, § 1775.11 and RUS Guide 1775-2. After each application is scored they will be ranked competitively. The categories for scoring criteria used are the following:

Scoring criteria | Points
1. Scope of assistance (national, multi-State, and single State/area) | Up to 10.
2. Degree of expertise | Up to 5.
3. Percentage of applicant's contributions | Up to 10.
4. Applicant Resource (staff vs. contract personnel) | Up to 10.
5. Needs Assessment: Extent that problems/issues are clearly defined and supported by data | Up to 15.
6. Description of the service area, particularly the demographics of the rural communities being served (population and MHI of the communities) | Up to 25.
7. Goals/Objectives: Goals/objectives are clearly defined, are tied to need, and are measurable | Up to 15.
8. Extent to which the work plan clearly articulates a well thought out approach to accomplishing objectives; and clearly defines who will be served by the study | Up to 40.
9. Extent to which the evaluation methods are specific to the program, clearly defined, measurable, with expected project outcomes | Up to 20.
10. Type of technical assistance applicant is providing | Up to 20.
11. Project duration | Up to 5.
12. Sustainability | Up to 10.
13. Prior Grant Years Funded | Up to 15.
14. Administrative Discretion | Up to 15.

XIII. Award Administration Information

A. RUS will rank all qualifying applications by their final score. Applications will be selected for funding, based on the highest scores and the availability of funding for the Technical Assistance and Training grants.

B. In making our decision about your application, RUS may determine that your application is:

1. Eligible and selected for funding;

2. Eligible but offered fewer funds than requested;

3. Eligible but not selected for funding; or

4. Ineligible for the grant.

C. In accordance with 7 CFR part 1900, subpart B, you generally have the right to appeal adverse decisions. Some adverse decisions cannot be appealed. For example, if you are denied RUS funding due to a lack of funds available for the grant program, this decision cannot be appealed. However, you may make a request to the National Appeals Division (NAD) to review the accuracy of our finding that the decision cannot be appealed. The appeal must be in writing and filed at the appropriate Regional Office, which can be found at http://www.nad.usda.gov/offices.htm or by calling (703) 305-1166.

D. Applicants selected for funding will complete a grant agreement, which outlines the terms and conditions of the grant award.

E. Grantees will be reimbursed as follows:

1. SF-270, “Request for Advance or Reimbursement,” will be completed by the grantee and submitted to either the State or National Office not more frequently than monthly.

2. Upon receipt of a properly completed SF-270, payment will ordinarily be made within 30 days.

F. Any change in the scope of the project, budget adjustments of more than 10 percent of the total budget, or any other significant change in the project must be reported to and approved by the approval official by written amendment to RUS Guide 1775-1 (Grant Agreement). Any change not approved may be cause for termination of the grant.

G. Project Reporting

1. Grantees shall constantly monitor performance to ensure that time schedules are being met, projected work by time periods is being accomplished, and other performance objectives are being achieved.

2. SF-269, “Financial Status Report (short form),” and a project performance activity report will be required of all grantees on a quarterly basis, due 30 days after the end of each quarter.

3. A final project performance report will be required with the last SF-269 due 90 days after the end of the last quarter in which the project is completed. The final report may serve as the last quarterly report.

4. All multi-State grantees are to submit an original of each report to the National Office. Grantees serving only one State are to submit an original of each report to the State Office. The project performance reports should detail, preferably in a narrative format, activities that have transpired for the specific time period.

H. The grantee will provide an audit report or financial statements as follows:

1. Grantees expending $500,000 or more Federal funds per fiscal year will submit an audit conducted in accordance with OMB Circular A-133.

The audit will be submitted within 9 months after the grantee's fiscal year. Additional audits may be required if the project period covers more than one fiscal year.

2. Grantees expending less than $500,000 will provide annual financial statements covering the grant period, consisting of the Grantee's statement of income and expense and balance sheet signed by an appropriate official of the Grantee. Financial statements will be submitted within 90 days after the grantee's fiscal year.

XIV. Agency Contacts

A. Web site: http://www.usda.gov/rus/water. The RUS' Web site maintains up-to-date resources and contact information for Technical Assistance and Training Grants program.

B. Phone: 202-720-9583.

C. Fax: 202-690-0649.

D. E-mail: anita.obrien@wdc.usda.gov.

E. Main point of contact: Anita O'Brien, Loan Specialist, Water and Environmental Programs, Water Programs Division, Rural Utilities Service, U.S. Department of Agriculture.

Dated: October 19, 2009.
Jonathan Adelstein,
Administrator, Rural Utilities Service.

[FR Doc. E9-29466 Filed 12-9-09; 8:45 am]

BILLING CODE 3410-15-P